DEPARTMENT OF ENERGY

Federal Energy Regulatory Commission

Combined Notice of Filings

Take notice that the Commission has received the following Natural Gas Pipeline Rate and Refund Report filings:

Filings Instituting Proceedings

Docket Numbers: CP05-119-000 & CP05-121-000.

Applicants: Cameron Interstate Pipeline, LLC.

Description: Cost and Revenue Study of Cameron Interstate Pipeline, LLC.

Filed Date: 10/18/11.

Accession Number: 20111018-5059.

Comments Due: 5 p.m. ET 7/2/12.

Docket Numbers: CP00-6-014.

Applicants: Gulfstream Natural Gas System, L.L.C.

Description: Cost and Revenue Study of Gulfstream Natural Gas System, L.L.C.

Filed Date: 11/1/11.

Accession Number: 20111101-5084.

Comments Due: 5 p.m. ET 7/2/12.

Docket Numbers: CP08-17-000.

Applicants: Cimarron River Pipeline, LLC.

Description: Compliance Filing—Cost and Revenue Study of Cimarron River Pipeline, LLC.

Filed Date: 11/2/11.

Accession Number: 20111102-5029.

Comments Due: 5 p.m. ET 7/2/12.

Docket Numbers: CP06-449-000.

Applicants: Kinder Morgan Louisiana Pipeline LLC.

Description: Cost and Revenue Study of Kinder Morgan Louisiana Pipeline LLC.

Filed Date: 6/20/12.

Accession Number: 20120620-5045.

Comments Due: 5 p.m. ET 7/2/12.

Docket Numbers: RP12-815-000.

Applicants: Equitrans, L.P.

Description: Sunrise Project Tariff Compliance Filing Docket No. CP11-68-000 to be effective 7/20/2012.

Filed Date: 6/20/12.

Accession Number: 20120620-5065.

Comments Due: 5 p.m. ET 7/2/12.

Docket Numbers: RP10-900-000.

Applicants: Dominion Transmission, Inc.

Description: DTI—Informational Fuel Report—2012.

Filed Date: 6/22/12.

Accession Number: 20120622-5118.

Comments Due: 5 p.m. ET 7/5/12.

Docket Numbers: RP12-818-000.

Applicants: Crossroads Pipeline Company.

Description: Non-Conforming Service Agreement—NIPSCO to be effective 11/1/2012.

Filed Date: 6/25/12.

Accession Number: 20120625-5000.

Comments Due: 5 p.m. ET 7/9/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: June 25, 2012.
Nathaniel J. Davis, Sr.,
Deputy Secretary.

[FR Doc. 2012-16092 Filed 6-29-12; 8:45 am]

BILLING CODE 6717-01-P